DEPARTMENT OF DEFENSE

Department of the Army, Corps of Engineers

Termination of Intent To Prepare a Draft Environmental Impact Statement for the Potential Multipurpose Projects for Ecosystem Restoration, Flood Risk Management, and Recreation Development Within and Along Johnson Creek, Arlington, Tarrant County, Texas

AGENCY: Department of the Army, U.S. Army Corps of Engineers, DoD.

ACTION: Notice of intent; withdrawal.

SUMMARY: The U.S. Army Corps of Engineers (USACE), Fort Worth District, is issuing this notice to advise Federal, state, and local governmental agencies and the public that USACE is withdrawing its Notice of Intent (NOI) to prepare a Draft Environmental Impact Statement (EIS) for the Potential Multipurpose Projects for Ecosystem Restoration, Flood Risk Management, and Recreation Development Within and Along Johnson Creek, in Arlington, Tarrant County, Texas. The City of Arlington, the local cost share sponsor, requested that all work associated with the EIS be terminated and that they no longer wish to pursue the Johnson Creek: A Vision of Conservation Plan.

DATES: The original NOI was published in the Federal Register on July 18, 2008. The City of Arlington notified the USACE of the request to terminate the EIS on January 22, 2019.

ADDRESSES: U.S. Army Corps of Engineers, Regional Planning and Environmental Center, CESWF-PEC-CI (Attn: Mr. Jason Story), Room 3A12, P.O. Box 17300, Fort Worth, TX 76102-0300.

FOR FURTHER INFORMATION CONTACT: Jason Story, Biologist, Regional Planning and Environmental Center. Email address: jason.e.story@usace.army.mil.

Angela M. Lane,
Acting Chief, Environmental Branch, Regional Planning and Environmental Center.

[FR Doc. 2019-16545 Filed 8-1-19; 8:45 am]

BILLING CODE 3720-58-P